DEPARTMENT OF ENERGY

Federal Energy Regulatory Commission

Combined Notice of Filings #1

Take notice that the Commission received the following electric corporate filings:

Docket Numbers: EC16-55-000

Applicants: Central Antelope Dry Ranch C LLC

Description: Application for Authorization Under Section 203 of the Federal Power Act for the Disposition of Jurisdictional Facilities, Request for Expedited Consideration and Confidential Treatment of Central Antelope Dry Ranch C LLC.

Filed Date: 12/23/15

Accession Number: 20151223-5244

Comments Due: 5 p.m. ET 1/13/16

Docket Numbers: EC16-56-000

Applicants: Entergy Louisiana, LLC

Description: Application of Entergy Louisiana, LLC, for transaction approval under FPA Section 203.

Filed Date: 12/23/15

Accession Number: 20151223-5253

Comments Due: 5 p.m. ET 1/13/16

Docket Numbers: EC16-57-000

Applicants: PacifiCorp

Description: Application under Section 203 for Approval of Acquisition of Jurisdictional Assets of PacifiCorp.

Filed Date: 12/23/15

Accession Number: 20151223-5254

Comments Due: 5 p.m. ET 1/13/16

Take notice that the Commission received the following exempt wholesale generator filings:

Docket Numbers: EG16-30-000

Applicants: Goal Line L.P.

Description: Notice of Material Change of Facts and Self-Recertification of Exempt Wholesale Generator Status of Goal Line L.P.

Filed Date: 12/23/15

Accession Number: 20151223-5231

Comments Due: 5 p.m. ET 1/13/16

Docket Numbers: EG16-31-000

Applicants: Voyager Wind I, LLC

Description: Notice of Self-Certification of Exempt Wholesale Generator Status of Voyager Wind I, LLC.

Filed Date: 12/23/15

Accession Number: 20151223-5233

Comments Due: 5 p.m. ET 1/13/16

Take notice that the Commission received the following electric rate filings:

Docket Numbers: ER15-861-007

Applicants: California Independent System Operator Corporation

Description: Compliance filing: Limited Tariff Waiver Petition: Modify ABC Effective Date & Short Comment Period to be effective N/A.

Filed Date: 12/23/15

Accession Number: 20151223-5237

Comments Due: 5 p.m. ET 12/30/15

Docket Numbers: ER16-634-000

Applicants: AltaGas Pomona Energy Inc.

Description: Baseline eTariff Filing: AltaGas Pomona Energy Inc. MBR Tariff to be effective 1/1/2016.

Filed Date: 12/24/15

Accession Number: 20151224-5000

Comments Due: 5 p.m. ET 1/14/16

Docket Numbers: ER16-635-000

Applicants: Entergy Louisiana, LLC

Description: § 205(d) Rate Filing: ELL-SRMPA 6th Extension of Interim Agreement to be effective 1/1/2016.

Filed Date: 12/24/15

Accession Number: 20151224-5034

Comments Due: 5 p.m. ET 1/14/16

Take notice that the Commission received the following electric securities filings:

Docket Numbers: ES16-16-000

Applicants: PJM Settlement, Inc.

Description: Application of PJM Settlement, Inc. under Section 204 of the Federal Power Act for an Order Authorizing Issuances of Securities and Approving Guaranty.

Filed Date: 12/23/15

Accession Number: 20151223-5242

Comments Due: 5 p.m. ET 1/13/16

Docket Numbers: ES16-17-000

Applicants: PJM Interconnection, L.L.C.

Description: Application of PJM Interconnection, L.L.C. Under Section 204 of the Federal Power Act for an Order Authorizing the Issuance of Securities.

Filed Date: 12/23/15

Accession Number: 20151223-5243

Comments Due: 5 p.m. ET 1/13/16

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 24, 2015.
Nathaniel J. Davis, Sr.,
Deputy Secretary.

[FR Doc. 2015-32916 Filed 12-30-15; 8:45 am]

BILLING CODE 6717-01-P